DEPARTMENT OF COMMERCE

National Oceanic and Atmospheric Administration

50 CFR Parts 300, 600 and 660

[Docket No. 011231309-2090-03; I.D. 042502D]

Fisheries off West Coast States and in the Western Pacific; Pacific Coast Groundfish Fishery; Annual Specifications and Management Measures; Trip Limit Adjustments; Pacific Halibut Fisheries; Corrections

AGENCY: National Marine Fisheries Service (NMFS), National Oceanic and Atmospheric Administration (NOAA), Commerce.

ACTION: Inseason trip limit adjustment; announcement of incidental halibut retention allowance; corrections to the 2002 specifications and management measures; request for comments.

SUMMARY: NMFS announces changes in the following trip limits for the Pacific Coast groundfish fisheries: limited entry trawl gear fisheries for the DTS complex (Dover sole, thornyheads, and sablefish), splitnose rockfish, minor slope rockfish, chilipepper rockfish, yelloweye rockfish sublimit in minor shelf rockfish, and lingcod; limited entry fixed gear fisheries for splitnose rockfish, minor slope rockfish, minor nearshore rockfish, and sablefish; open access fisheries for minor slope rockfish, minor nearshore rockfish, and sablefish; yelloweye rockfish in pink shrimp fishery; and yellowtail rockfish in salmon troll fishery. These actions, which are authorized by the Pacific Coast Groundfish Fishery Management Plan (FMP), are intended to help the fisheries achieve optimum yield (OY) while protecting overfished and depleted stocks. NMFS announces regulations for the retention of Pacific halibut landed incidentally in the limited entry primary longline sablefish fishery north of Pt. Chehalis, WA. Clarification is provided on the sublimit in the limited entry small footrope trawl fishery for yellowtail rockfish. This document also contains notification of a voluntary closed area for commercial fisheries off Washington, a correction to a CFR citation in the 2002 specifications and management measures that were published on March 7, 2002, and a correction to the trip limits in Table 4 for limited entry fixed gear minor rockfish south between 40°10′ N. and 34°27′ N. lat.

DATES: Changes to management measures are effective 0001 hours (local time) May 1, 2002, through the effective dates of the 2003 specifications and management measures for the Pacific Coast groundfish fishery, unless modified, superseded, or rescinded, which will be published in the Federal Register. Comments on this rule will be accepted through May 22, 2002.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213. This Federal Register document is available on the Government Printing Office’s website at: http://www.access.gpo.gov/su_docs/aces/aces140.html.

FOR FURTHER INFORMATION CONTACT: Jamie Goen or Becky Renko (Northwest Region, NMFS) 206-526-6140.

SUPPLEMENTARY INFORMATION:

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the current fishing year (January 1-December 31, 2002) were initially published in the Federal Register as an emergency rule for January 1 - February 28, 2002 (67 FR 1540, January 11, 2002), and as a proposed rule for all of 2002 (67 FR 1555, January 11, 2002), then finalized effective March 1, 2002 (67 FR 10490, March 7, 2002). The emergency rule was subsequently amended at 67 FR 3820, January 28, 2002, and at 67 FR 7289, February 19, 2002. The final rule was subsequently amended at 67 FR 15338, April 1, 2002.

The Northern Pacific Halibut Act of 1982 (16 U.S.C. 773-773k) (Halibut Act) and its implementing regulations at 50 CFR part 300, subpart E, regulate fishing for Pacific Halibut in U.S. Convention waters. The Halibut Act also authorizes the Pacific Council to develop regulations governing the Pacific halibut catch in waters off of Washington, Oregon, and California that are in addition to, but not in conflict with, regulations of the International Pacific Halibut Commission (IPHC). Accordingly, the Pacific Council has developed, and NMFS has approved, a catch sharing plan (CSP) to allocate the total allowable catch (TAC) of Pacific halibut between treaty Indian and non-Indian harvesters, and among non-Indian commercial and sport fisheries in IPHC statistical Area 2A (off Washington, Oregon, and California). The CSP, as implemented at 50 CFR part 300, provides for retention of halibut landed incidentally in the limited entry, longline primary sablefish fishery north of Pt. Chehalis, WA (46°53′18″ N. lat.) in years when the Area 2A TAC is above 900,000 lb (408.2 mt). Because the Area 2A TAC is above 900,000 lb (408.2 mt) in 2002, NMFS is establishing an allowance for incidental halibut retention in the primary sablefish fishery in 2002.

The following changes to current groundfish management measures were recommended by the Pacific Council, in consultation with Pacific Coast Treaty Tribes and the States of Washington, Oregon, and California, at its April 8-12, 2002, meeting in Portland, OR. Pacific Coast groundfish landings will be monitored throughout the year, and further adjustments to the trip limits will be made as necessary to stay within the OYs and allocations announced in the 2002 specifications and management measures for the groundfish fishery, published in the Federal Register at 67 FR 10490 (March 7, 2002), as amended at 67 FR 15338 (April 1, 2002).

Darkblotched rockfish, an overfished species found on the continental slope, is of particular concern for, and is harvested by, several sectors of the groundfish fishery discussed in this inseason action. To protect darkblotched rockfish, NMFS and the Pacific Council previously restricted trip limits for continental slope fisheries north of 40°10′ N. lat. The restricted limits north of 40°10′ N. lat. were intended to reduce harvest of species that co-occur with darkblotched rockfish in order to reduce the incidental harvest of darkblotched rockfish in areas where they tend to occur. However, recent data have shown that darkblotched rockfish may also occur in higher concentrations than previously believed south of 40°10′ N. lat., especially between 40°10′ N. lat. and 36° N. lat. (Monterey management area).

For the 2002 specifications and management measures, NMFS introduced a new bycatch model for estimating the rates at which certain overfished species, including darkblotched rockfish, co-occur as bycatch in fisheries targeting healthier stocks. For the purposes of this inseason action, “bycatch” is used to describe a species’ co-occurrence with a target species, regardless of whether the first species is retained (landed, sold, or otherwise used) or discarded. A re-evaluation of the bycatch model has shown that darkblotched rockfish landings information from the waters between 40°10′ N. lat. and 36° N. lat. (Monterey management area) may not have been accurate in the original bycatch model, resulting in co-occurrence rates used in the bycatch model for darkblotched rockfish being lower than what may have actually occurred in target fisheries in the Monterey area. NMFS and the Pacific Council must manage the coastwide fisheries to minimize opportunities for incidental darkblotched rockfish catch so as to not exceed the darkblotched rockfish OY, which is set at a level that is intended to rebuild the stock.

For these reasons, the Pacific Council recommended reducing slope rockfish trip limits in this management area, starting May 1, 2002. In the coming months, the Pacific Council’s Groundfish Management Team (GMT) will review fish ticket data to better evaluate landings in the Monterey area and to determine whether further adjustments are needed to the bycatch model and to trip limits to protect darkblotched rockfish. NMFS and the Pacific Council will recommend further changes at the June 2002 Council meeting, based on the GMT’s evaluation.

In addition, NMFS must account for an additional 2 mt of darkblotched rockfish, expected to be taken in research catches. Together, these situations have led NMFS and the Pacific Council to recommended further restrictions to protect darkblotched rockfish. After considerable deliberation on this issue, NMFS and the Pacific Council have recommended reductions in the DTS fisheries, minor slope rockfish fisheries, and splitnose rockfish fisheries in order to further restrict the bycatch of darkblotched rockfish.

Limited Entry Trawl Gear Limits for DTS North of 40°10′ N. lat.

During January-February of this year, landings of the DTS complex were 8 percent above projected levels. Due to concern about increased effort in the DTS fishery and its effects on darkblotched rockfish, an overfished species that co-occurs with the DTS complex, the Pacific Council recommended reducing trip limits for DTS north of 40°10′ N. lat. in order to reduce the incidental harvest of darkblotched rockfish. Although trip limits for the DTS fishery were scheduled to decrease in the winter to reduce darkblotched bycatch, further restrictions are necessary at this time to protect darkblotched rockfish. Reducing trip limits for the July-August period is expected to save roughly 6 mt of darkblotched rockfish, which should keep the darkblotched rockfish catch within the 2002 OY while allowing fisheries for co-occurring species to continue.

The lower 2002 whiting OY, implemented on April 15, 2002 (67 FR 18117), will most likely result in a shorter whiting season. This could cause effort to shift into the DTS fishery during the July-August period. Reducing trip limits in the northern DTS fishery during July-August will reduce the catch of darkblotched rockfish not accounted for in the bycatch model, and will also reduce the likelihood of effort shifting into the DTS fishery from the whiting fishery. In order to accommodate the desire by fishers and processors to maintain year-round fishing opportunities and to reduce the likelihood of a total continental slope fishery closure later in the year due to early attainment of the DTS OY and/or interception of darkblotched rockfish, the trip limits for the DTS fishery for July-August were cut roughly in half.

For the July-August period, the 2-month cumulative limits for the DTS trawl fishery occurring north of 40°10′ N. lat. will be reduced as follows: Dover sole will be reduced from 28,000 lb (12,700 kg) to 14,000 lb (6,350 kg), shortspine thornyhead will be reduced from 2,600 lb (1,179 kg) to 1,500 lb (680 kg), longspine thornyhead will be reduced from 3,000 lb (1,361 kg) to 1,500 lb (680 kg), and sablefish will be reduced from 6,000 lb (2,722 kg) to 3,000 lb (1,361 kg).

Limited Entry Trawl and Fixed Gear Limits for Splitnose Rockfish and Limited Entry Trawl and Fixed Gear and Open Access Limits for Minor Slope Rockfish Between 40°10′ N. lat. and 36° N. lat.

Splitnose rockfish and minor slope rockfish both co-occur with darkblotched rockfish, an overfished species, on the continental slope. In light of the new information for the darkblotched rockfish in the Monterey management area (between 40°10′ N. lat. and 36° N. lat.) previously discussed, the Pacific Council recommended trip limit reductions for splitnose rockfish and minor slope rockfish as a precautionary measure to reduce possible incidental catch of darkblotched rockfish until further information is available at the June Pacific Council meeting.

Trip limits for splitnose rockfish and minor slope rockfish remain unchanged south of 36° N. lat. (south of the Monterey management area) because incidental catch of darkblotched rockfish has remained low in this area. In order to avoid excessive effort concentration on splitnose and minor slope rockfish from vessels moving south to the Conception management area (south of 36° N. lat.) to access higher trip limits, this issue will also be revisited at the June Pacific Council meeting, when fish tickets become available, to identify reasonable thresholds for removals of splitnose and minor slope rockfish.

To apply the reductions equally across sectors, splitnose rockfish limits will be reduced for limited entry trawl and fixed gear between 40°10′ N. lat. and 36° N. lat. from 25,000 lb (11,340 kg) per 2 months to 5,000 lb (2,268 kg) per 2-month period from May-August. The open access limit for splitnose rockfish south of 40°10′ N. lat. remains 200 lb (91 kg) per month. Also for the May-August period, the limited entry trawl, limited entry fixed gear and open access limits for minor slope rockfish between 40o10' N. lat. and 36o N. lat. will each be reduced to 5,000 lb (2,268 kg) per 2-month period. Previously, minor slope rockfish limits for these sectors in the Monterey area were 50,000 lb (22,680 kg) per 2-months for limited entry trawl, 25,000 lb (11,340 kg) per 2-months for limited entry fixed gear, and 10,000 lb (4,536 kg) per 2-months for open access.

Limited Entry Small Footrope Trawl Gear Limits for Chilipepper Rockfish South of 40°10′ N. lat.

The best available information at the April Pacific Council meeting showed higher than projected landings in January-February for bocaccio, an overfished species that co-occurs with chilipepper rockfish. Estimated limited entry landings of bocaccio for January-February (the majority of which are from trawl gear) were 5 mt, above the projected catch of 1.3 mt. Although the January-February catch of bocaccio is higher than projected, the projected annual catch for 2002 (13.8 mt) was well below the 25 mt total catch harvest guideline for the limited entry fleet. Because fish ticket data are not yet available for the January-February period, it is not known what other species are being landed with bocaccio. However, previous examinations of rockfish compositions have shown that chilipepper rockfish is often landed along with bocaccio. Fish ticket data will be available and examined before the June Pacific Council meeting in San Francisco. If landings of bocaccio continue above the projected pace, further adjustments to harvest limits for bocaccio and co-occurring species will be recommended at that time.

Limited entry trawl cumulative limits for bocaccio are scheduled to increase from 600 lb (272 kg) per 2-month period to 1,000 lb (454 kg) per 2 months from May-October. The Pacific Council considered reducing this scheduled increase, but felt it was necessary to allow the scheduled increase to accommodate interception of bocaccio in other trawl fisheries.

Bocaccio is not a targeted species in limited entry trawl fisheries; thus, adjustments to target species that co-occur with bocaccio are the most effective way to minimize increased catch of bocaccio and bocaccio landings. NMFS expects that minimizing bocaccio interception in the coming years will be a continuing challenge as individuals from the robust 1999 year-class grow to a size that makes them available to the commercial fisheries. Thus, for the May-December period, the limited entry small footrope trawl limit for chilipepper rockfish south of 40°10′ N. lat. will be reduced from 7,500 lb (3,402 kg) per 2-month period to 4,000 lb (1,814 kg) per 2-month period.

Limited Entry Fixed Gear and Open Access Limits for Minor Nearshore Rockfish North of 40°10′ N. lat.

At its November 2001 meeting, the Pacific Council adopted a limited entry fixed gear trip limit for minor nearshore rockfish north of 40°10′ N. lat. of 5,000 lb (2,268 kg) per month, no more than 2,000 lb (907 kg) of which could be species other than black or blue rockfish. This was an oversight, as the nearshore rockfish limits in this fishery have commonly been managed as 2-month limits, not as monthly limits. The limited entry fixed gear limit for minor nearshore rockfish north of 40o10' should have been 5,000 lb (2,268 kg) per 2-months, similar to the open access minor nearshore rockfish limit for that same area of 4,000 lb (1,814 kg) per 2 months.

Landings in the nearshore rockfish fisheries north of 40°10′ N. lat. through March are well below 2001 levels (11 mt for 2002 as opposed to 45 mt in 2001). Even though the 2002 harvest guideline for this fishery is lower than in 2001 (324 mt versus 412 mt), the entire 2001 landings were below the 2002 harvest guideline. As a result, the Pacific Council recommended increasing the open access trip limit and bringing the limited entry fixed gear trip limit in line with the open access trip limit beginning in May. These changes are expected to allow attainment of the nearshore harvest guidelines without allowing the fisheries to exceed these guidelines. The recommended limit is less than the limit for May-September last year, which was 7,000 lb (3,175 kg) per 2 months. If 2002 participation in this fishery is similar to 2001, this limit increase is not expected to result in early attainment of the minor nearshore rockfish OY.

The limited entry fixed gear limits for minor nearshore rockfish north of 40°10′ N. lat. will be decreased from 5,000 lb (2,268 kg) per month, no more than 2,000 lb (907 kg) of which may be species other than black and blue rockfish for limited entry fixed gear. For the open access fishery for minor nearshore rockfish north of 40°10′ N. lat. the limits will be increased from 4,000 lb (1,814 kg) per 2 months, no more than 1,600 lb (726 kg) of which may be species other than black and blue rockfish. For the May-December period, both the limited entry and the open access limits for minor nearshore rockfish north of 40°10′ N. lat. will be changed to 6,000 lb (2,722 kg) per 2 months, no more than 3,000 lb (1,361 kg) of which may be species other than black or blue rockfish.

Limited Entry Small Footrope/midwater Trawl Gear Sublimits for Yelloweye Rockfish in Minor Shelf Rockfish, Open Access Exempted Trawl Gear- No Retention of Yelloweye in the Pink Shrimp Fishery, Notification of Voluntary Closed Area

Further restrictions on yelloweye rockfish are being implemented as a precautionary measure. The limited entry trawl fishery trip limit for minor shelf rockfish is scheduled to increase to 1,000 lb (454 kg) per month from May-October. Although limited entry trawl landings of yelloweye rockfish have been low since the implementation of the small footrope and/or midwater trawl gear requirement for minor shelf rockfish, a sublimit on yelloweye rockfish is necessary to remove any incentive to target yelloweye rockfish, as yelloweye is an overfished species, while still allowing for landings of incidental catch. Therefore, for the May-October period, a yelloweye sublimit will be added as follows: the limited entry small footrope/midwater trawl fishery for minor shelf rockfish will be 1,000 lb (454 kg) per month, no more than 300 lb (136 kg) of which may be yelloweye rockfish.

This document adds a prohibition for the open access exempted trawl fishery for pink shrimp, on retention of yelloweye rockfish from May-December.

Further efforts to protect yelloweye rockfish in an area of high interception have been recommended by Washington Department of Fish and Wildlife. The majority of the fishing industry supports this voluntary closure and leaders of industry associations are working with their members to ensure voluntary avoidance of the area. For all commercial fisheries off Washington, including groundfish fisheries, a voluntary closure of a four-mile by seven-mile area adjacent to the halibut hotspot area is in place within a rectangle defined by the following coordinates: 48°04′ N. lat., 125°11′ W. long.; 48°04′ N. lat., 124°59′ W. long.; 48°00′ N. lat., 125°11′ W. long.; and 48°00′ N. lat., 124°59′ W. long.

Limited Entry Small Footrope/Midwater Trawl Gear Limits for Lingcod

The January-February lingcod catch (estimated landings plus assumed discard) of 6 mt is slightly ahead of the projected amount of 4.8 mt. Although the January-February lingcod catch is slightly higher than projected, the projected annual catch is still on track with the 2002 harvest guideline of 163 mt. In 2001, limited entry landings were 80 mt out of a 203 mt harvest guideline. Bycatch projections for the rest of the year also remain within the 2002 harvest guideline. In order to allow vessels to land unavoidable bycatch by the trawl fleet during summer continental shelf fisheries, the limited entry small footrope/midwater trawl gear limit for lingcod will be increased. Lingcod are also less likely to survive being caught and discarded during the summer months because mortality increases with higher water and air temperatures. This trip limit increase is not intended to fully take the landed catch harvest guideline for this species, but to reduce discard mortality in a manner that will not encourage targeting or result in excessive catch. Furthermore, this change in retention allowance should not affect the level of projected bycatch that will occur in available target fisheries, only the amount of that bycatch that may be retained.

For the May-October period, limited entry small footrope/midwater trawl gear limits for lingcod will be increased from 800 lbs (363 kg) per 2 months to 1,000 lb (454 kg) per 2 months. This increase is not expected to increase incidental interception of lingcod, but is expected to allow increased retention of dead lingcod.

Limited Entry Fixed Gear and Open Access Limits for Sablefish South of 36° N. lat.

Because of the darkblotched rockfish closure in the Conception management area (south of 34°27′ N. lat.) during January-February, there was more participation than projected in the daily-trip-limit (DTL) fishery for sablefish south of 36° N. lat. This concentration of effort produced landings of 47 mt (22.3 percent of the harvest guideline), an amount of landings that had not been achieved in 2001 until May. While participation in the sablefish DTL fishery was higher than anticipated in January-February, the pace of the fishery slowed in March. However, another rockfish closure similar to the previous one in January-February is scheduled for November-December. If this rockfish closure shifts participation into the sablefish DTL fishery as it did in January-February, the sablefish DTL fishery may have to be closed due to early attainment of the OY. Because fishery participants wish to have an opportunity to land sablefish in the winter when rockfish fisheries will be closed in this area, the Pacific Council recommended reducing DTL sablefish limits in the Conception area.

For the May-December period, the limited entry fixed gear and open access limits for sablefish south of 36° N. lat. will be reduced from 350 lb per day (159 kg per day), or 1 landing per week of up to 1,050 lbs (476 kg) to 300 lb per day (136 kg per day), or 1 landing per week of up to 900 lbs (408 kg).

Open Access Limits for Yellowtail in the Salmon Troll Fishery North of 40°10′ N. lat.

In 2001, the Pacific Council’s GMT analyzed the incidental catch of yellowtail and canary rockfish in the salmon troll fishery. Management measures aimed at protecting canary rockfish, an overfished species that is often caught in association with yellowtail rockfish, have reduced catch opportunity for yellowtail rockfish which is considered to be a healthy stock. However, the 2001 analysis indicated that the amount of canary rockfish taken with salmon troll gear was not highly correlated to the amount of yellowtail rockfish taken with salmon troll gear. Following these findings in 2001, the Pacific Council adopted, and NMFS implemented, the GMT’s recommendation for a yellowtail incidental catch limit specific to the salmon troll fishery. The intent of this small trip limit was to help reduce discard in the salmon troll fishery, without providing an incentive to target yellowtail rockfish or to exacerbate the incidental catch of canary rockfish. The Pacific Council has recommended that NMFS reinstate this same incidental yellowtail retention trip limit for the remainder of 2002.

For the May-December period, the general open access limit for yellowtail rockfish north of 40°10′ N. lat. continues to be 200 lb per month for combined minor shelf, widow and yellowtail rockfish. Participants in the salmon troll fishery in this area have a specific yellowtail rockfish limit of 1 lb (0.45 kg) of yellowtail rockfish per 2 lb (0.91 kg) of salmon, up to 300 lb (136 kg) per month.

Retention of Incidental Halibut Catch in the Primary Sablefish Fishery

The Pacific halibut CSP and implementing regulations at 50 CFR 300.63(a)(3) provide for retention of halibut landed incidentally in the limited entry, longline primary sablefish fishery north of Pt. Chehalis, WA (46°53′18″ N. lat.) in years when the Area 2A TAC is above 900,000 lb (408.2 mt). The 2002 Area 2A TAC is 1,310,000 lb (594.2 mt).

According to IPHC and Federal regulations, Pacific halibut may not be taken by gear other than hook-and-line gear. Only vessels registered for use with sablefish-endorsed limited entry permits may participate in the primary fixed gear sablefish fishery specified for halibut retention in the CSP. Vessels must also carry IPHC commercial halibut licenses in order to retain and land halibut. Incidental halibut retention in the primary sablefish fishery is only available to vessels operating north of Pt. Chehalis, WA (46°53′18″ N. lat.).

Similar to 2001, retention of halibut caught incidentally to the primary sablefish fishery may be retained by appropriately licensed longline vessels. Beginning May 1, 2002, and continuing until the halibut quota (88,389 lbs or 40.1 mt) is taken: longliners participating in the primary sablefish fishery north of Pt. Chehalis, Washington with IPHC licenses may retain incidental halibut landings up to 150 lbs (68 kg) (dressed weight) of halibut for every 1,000 lbs (454 kg) (dressed weight) of sablefish landed and up to two additional halibut in excess of the 150 lb (68 kg) per 1,000 lb (454 kg) ratio per landing. Halibut may not be on board a vessel that also has gear other than longline gear on board (e.g., pot or trawl gear).

Clarification on Limited Entry Small Footrope Trawl for Yellowtail Rockfish North of 40°10′ N. lat.

The current limited entry small footrope trawl limit for yellowtail rockfish north of 40°10′ N. lat. reads, ”In landings without flatfish, 1,000 lb per month. As flatfish bycatch, per trip limit is the sum of 33 percent (by weight) of all flatfish except arrowtooth flounder, plus 10 percent (by weight) of arrowtooth flounder. Combined with and without flatfish, not to exceed 30,000 lb per 2 months.” This means that any yellowtail rockfish landed in the same landing as flatfish is subject to the flatfish ratio. Yellowtail landed with flatfish in excess of that ratio is subject to applicable enforcement procedures. One thousand lbs (454 kg) of yellowtail may be landed per month in landings that do not include flatfish. In total, yellowtail landings with and without flatfish may not exceed 30,000 lb (13,608 kg) per 2 months.

Corrections

The 2002 fishery specifications and management measures for the Pacific Coast groundfish FMP were published in the Federal Register on March 7, 2002 (67 FR 10490). The specifications and management measures contained an error that referred to regulations at 50 CFR part 663, rather than the correct reference to regulations at 50 CFR part 660. This is a minor editorial correction.

NMFS Actions

For the reasons stated here, NMFS concurs with the Pacific Council's recommendations and hereby announces the following changes to the 2002 specifications and management measures (67 FR 10490 March 7, 2002, as amended at 67 FR 15338 April 1, 2002) to read as follows:

1. On page 10516, in section IV, under B. Limited Entry Fishery, at the end of paragraph (1), Tables 3 and 4 are revised to read as follows:

IV. NMFS Actions

B. Limited Entry Fishery

(1) * * *

BILLING CODE 3510-22-S

BILLING CODE 3610-22-C

* * * * *

2. On page 10519, first column, paragraph (b), line 9, correct the citation to read, “(See 50 CFR 660.323(a)(2)(i))”.

3. On page 10519, at the beginning of column 2, add paragraph B(2)(b)(i)(A) to read as follows:

(2) * * *

(b) * * *

(i) * * *

(A) Incidental halibut retention north of Pt. Chehalis, WA (46°53'18″ N. lat). Vessels authorized to participate in the primary sablefish fishery, licensed by the International Pacific Halibut Commission for commercial fishing in Area 2A (waters off Washington, Oregon, California), and fishing with longline gear north of Pt. Chehalis, WA (46°53′18″ N. lat.) may land up to the following cumulative limits: 150 lb (68 kg) dressed weight of halibut per 1,000 lb (454 kg) dressed weight of sablefish, plus up to two additional halibut per fishing trip. “Dressed” halibut in this area means halibut landed eviscerated with their heads on. Halibut taken in the primary sablefish fishery north of Pt. Chehalis may only be landed north of Pt. Chehalis and may not be landed south of Pt. Chehalis.

4. On page 10519, under C. Trip Limits in the Open Access Fishery, after paragraph (1), Table 5 is revised to read as follows:

C. Trip Limits in the Open Access Fishery

(1) * * *

BILLING CODE 3610-22-S

BILLING CODE 3510-22-C

5. On page 10521, second column, under section C(3)(a), add paragraph (a)(v) to read as follows:

(v) Yelloweye rockfish-Closed (Retention prohibited)

* * * * *

6. On page 10521, third column, after paragraph (d), add C(4) to read as follows:

* * * * *

(4) Groundfish taken with troll gear by vessels engaged in fishing for salmon north of 40°10′ N. lat.

(a) In any trip in which salmon troll gear, as defined at 50 CFR 660.402, is used to take and land yellowtail rockfish north of 40°10′ N. lat., the following cumulative limit applies: no more than 1 lb (0.45 kg) of yellowtail rockfish may be landed for every 2 lbs (0.91 kg) of salmon landed, and no more than 300 lbs (136 kg) of yellowtail rockfish may be landed per month.

(b) The trip limits in Table 5 apply to all other groundfish taken with troll gear by vessels fishing for salmon.

* * * * *

Classification

These actions are authorized by the Pacific Coast groundfish FMP, the Halibut Act, and their implementing regulations, and are based on the most recent data available. The aggregate data upon which these actions are based are available for public inspection at the Office of the Administrator, Northwest Region, NMFS (see ADDRESSES) during business hours.

The Assistant Administrator for Fisheries, NMFS, finds good cause to waive the requirement to provide prior notice and opportunity for public comment on this action pursuant to 5 U.S.C. 553(b)(B), because providing prior notice and opportunity for comment would be impracticable. It would be impracticable because the cumulative trip limit period for the Pacific Coast groundfish fishery begins May 1, 2002, and affording prior notice and opportunity for public comment would impede the agency’s function of managing fisheries to achieve OY. Most of the trip limits adjustments in this document are reductions from the status quo. Decreases to trip limits must be implemented in a timely manner to protect overfished and depleted groundfish species and to prevent the harvest of healthy stocks from exceeding the OY for 2002. Because the Pacific Coast groundfish fishery is managed by trip limits, most of which are based on a 2- month cumulative period (January-February, March-April, May-June, July-August, September-October, November-December), these actions should be implemented by the beginning of the next cumulative trip limit period (May 1, 2002) to prevent fishers from harvesting the prior higher trip limits during that period before the new limit goes into place. Allowing fishers to continue harvesting the prior higher trip limits after the start of the cumulative trip limit period may cause premature fishery closures or more severe trip limit reductions in the future. For a few species, the trip limit adjustment is an increase. Increases to trip limits in this inseason action allow fishers to access groundfish allocations without exceeding the OY for those species or the OYs of overfished or depleted stocks and delaying the increase could prevent the industry from obtaining the intended benefit. In addition, the affected public had the opportunity to comment on these actions at the April 8-12, 2002, Pacific Council meeting. For these reasons, good cause also exists to waive the 30-day delay in effectiveness requirement of 5 U.S.C. 553 (d)(3).

These actions are taken under the authority of 50 CFR 300.63(a)(3) and 660.323(b)(1), and are exempt from review under Executive Order 12866.

Authority: 16 U.S.C. 773-773k; 1801 et seq.

Dated: May 1, 2002.
Virginia M. Fay,
Acting Director, Office of Sustainable Fisheries, National Marine Fisheries Service.

[FR Doc. 02-11218 Filed 5-2-02; 12:49 pm]

BILLING CODE 3510-22-S